DEPARTMENT OF ENERGY

Federal Energy Regulatory Commission

Combined Notice of Filings #1

Take notice that the Commission received the following electric corporate filings:

Docket Numbers: EC11-42-000.

Applicants: Millennium Power Partners, L.P., New Harquahala Generating Company, LLC, MACH Gen, LLC, New Athens Generating Company, LLC, SOLA LTD, Solus Alternative Asset Management LP.

Description: Application of MACH Gen, LLC et al. for Order Authorizing Disposition of Jurisdictional Facilities under Section 203 of the Federal Power and Request for Waivers and Expedited Action.

Filed Date: 02/09/2011.

Accession Number: 20110209-5082.

Comment Date: 5 p.m. Eastern Time on Wednesday, March 02, 2011.

Take notice that the Commission received the following exempt wholesale generator filings:

Docket Numbers: EG11-56-000.

Applicants: Coyote Canyon Energy LLC.

Description: Self-Certification of EG of Coyote Canyon Energy LLC.

Filed Date: 02/09/2011.

Accession Number: 20110209-5109.

Comment Date: 5 p.m. Eastern Time on Wednesday, March 02, 2011.

Take notice that the Commission received the following electric rate filings:

Docket Numbers: ER10-1988-001.

Applicants: Sagebrush, a California partnership.

Description: Sagebrush, a California Partnership submits tariff filing per 35: Sagebrush Compliance Filing to the OATT FINAL to be effective 12/31/2011.

Filed Date: 11/15/2010.

Accession Number: 20101115-5158.

Comment Date: 5 p.m. Eastern Time on Wednesday, February 16, 2011.

Docket Numbers: ER10-2801-002.

Applicants: Dunkirk Power LLC.

Description: Dunkirk Power LLC submits tariff filing per 35: Dunkirk—Amendment to MBR Tariff 01272011 to be effective 10/8/2010.

Filed Date: 01/27/2011.

Accession Number: 20110127-5137.

Comment Date: 5 p.m. Eastern Time on Thursday, February 17, 2011.

Docket Numbers: ER10-3298-001.

Applicants: Powerex Corporation.

Description: Powerex Corporation submits tariff filing per 35: Amendment to Powerex Rate Schedule No. 5 to be effective 9/30/2010.

Filed Date: 02/09/2011.

Accession Number: 20110209-5081.

Comment Date: 5 p.m. Eastern Time on Wednesday, March 02, 2011.

Docket Numbers: ER10-1518-001; ER10-2765-002; ER10-2766-002; ER10-2767-002; ER10-2768-002; ER10-2769-002; ER10-2770-002.

Applicants: Milford Power Company, LLC, MASSPOWER, Lake Road Generating Company, L.P., Empire Generating Co, LLC, ECP Energy I, LLC, EquiPower Resources Management, LLC, Dighton Power, LLC.

Description: Notification of Change in Status of Dighton Power, LLC, et al.

Filed Date: 02/09/2011.

Accession Number: 20110209-5100.

Comment Date: 5 p.m. Eastern Time on Wednesday, March 02, 2011.

Docket Numbers: ER11-2424-001.

Applicants: Pinetree Power-Tamworth, Inc.

Description: Pinetree Power-Tamworth, Inc. submits tariff filing per 35.17(b): Pinetree Power—Tamworth, Inc.—Supplement to Filing of Initial Tariff to be effective 1/1/2011.

Filed Date: 02/09/2011.

Accession Number: 20110209-5135.

Comment Date: 5 p.m. Eastern Time on Wednesday, March 02, 2011.

Docket Numbers: ER11-2693-001.

Applicants: Midwest Independent Transmission System Operator, Inc.

Description: Midwest Independent Transmission System Operator, Inc. submits tariff filing per 35.17(b): 02-09-2011 to J102 to be effective 1/19/2011.

Filed Date: 02/09/2011.

Accession Number: 20110209-5147.

Comment Date: 5 p.m. Eastern Time on Wednesday, March 02, 2011.

Docket Numbers: ER11-2854-000.

Applicants: Mirant Potomac River, LLC.

Description: Mirant Potomac River, LLC submits tariff filing per 35.13(a)(2)(iii): Notice of Succession to be effective 1/20/2011.

Filed Date: 02/08/2011.

Accession Number: 20110208-5164.

Comment Date: 5 p.m. Eastern Time on Tuesday, March 01, 2011.

Docket Numbers: ER11-2855-000.

Applicants: Avenal Park LLC.

Description: Avenal Park LLC submits tariff filing per 35.12: Application for Market-Based Rate Authority to be effective 3/7/2011.

Filed Date: 02/09/2011.

Accession Number: 20110209-5000.

Comment Date: 5 p.m. Eastern Time on Wednesday, March 02, 2011.

Docket Numbers: ER11-2856-000.

Applicants: Sand Drag LLC.

Description: Sand Drag LLC submits tariff filing per 35.12: Application for Market-Based Rate Authority to be effective 3/7/2011.

Filed Date: 02/09/2011.

Accession Number: 20110209-5001.

Comment Date: 5 p.m. Eastern Time on Wednesday, March 02, 2011.

Docket Numbers: ER11-2857-000.

Applicants: Sun City Project LLC.

Description: Sun City Project LLC submits tariff filing per 35.12: Application for Market-Based Rates to be effective 3/7/2011.

Filed Date: 02/09/2011.

Accession Number: 20110209-5002.

Comment Date: 5 p.m. Eastern Time on Wednesday, March 02, 2011.

Docket Numbers: ER11-2858-000.

Applicants: Public Service Company of New Mexico.

Description: Public Service Company of New Mexico submits tariff filing per 35.12: OATT Service Agreement No. 368 to be effective 1/12/2011.

Filed Date: 02/09/2011.

Accession Number: 20110209-5004.

Comment Date: 5 p.m. Eastern Time on Wednesday, March 02, 2011.

Docket Numbers: ER11-2859-000.

Applicants: Southern California Edison Company.

Description: Southern California Edison Company Cancellation of Ltr Agreement with City of Pasadena for CB Replacement.

Filed Date: 02/09/2011.

Accession Number: 20110209-5091.

Comment Date: 5 p.m. Eastern Time on Wednesday, March 02, 2011.

Docket Numbers: ER11-2860-000.

Applicants: Coyote Canyon Energy LLC.

Description: Coyote Canyon Energy LLC submits tariff filing per 35.12: FERC Electric Tariff Volume No.1 to be effective 4/11/2011.

Filed Date: 02/09/2011.

Accession Number: 20110209-5092.

Comment Date: 5 p.m. Eastern Time on Wednesday, March 02, 2011.

Docket Numbers: ER11-2861-000.

Applicants: Southwest Power Pool, Inc.

Description: Southwest Power Pool, Inc. submits tariff filing per 35.13(a)(2)(iii): Revision to Attachment AD to Temporarily Extend Tariff Administration Agreement to be effective 2/1/2011.

Filed Date: 02/09/2011.

Accession Number: 20110209-5132.

Comment Date: 5 p.m. Eastern Time on Wednesday, March 02, 2011.

Docket Numbers: ER11-2862-000.

Applicants: Entergy Arkansas, Inc.

Description: Entergy Arkansas, Inc. submits tariff filing per 35.13(a)(2)(iii): Plum Point Amended IOA to be effective 4/10/2011.

Filed Date: 02/09/2011.

Accession Number: 20110209-5166.

Comment Date: 5 p.m. Eastern Time on Wednesday, March 02, 2011.

Docket Numbers: ER11-2863-000.

Applicants: Mirant Mid-Atlantic, LLC.

Description: Mirant Mid-Atlantic, LLC submits tariff filing per 35.13(a)(2)(iii): Notice of Succession to be effective 1/20/2011.

Filed Date: 02/09/2011.

Accession Number: 20110209-5167.

Comment Date: 5 p.m. Eastern Time on Wednesday, March 02, 2011.

Docket Numbers: ER11-2864-000.

Applicants: GenOn Chalk Point, LLC.

Description: GenOn Chalk Point, LLC submits tariff filing per 35.13(a)(2)(iii): Notice of Succession to be effective 1/20/2011.

Filed Date: 02/09/2011.

Accession Number: 20110209-5183.

Comment Date: 5 p.m. Eastern Time on Wednesday, March 02, 2011.

Docket Numbers: ER11-2865-000.

Applicants: AEP Texas Central Company.

Description: AEP Texas Central Company submits tariff filing per 35.13(a)(2)(iii): 20110209 TCC-ETT IA Amend 1 to be effective 1/21/2011.

Filed Date: 02/09/2011.

Accession Number: 20110209-5184.

Comment Date: 5 p.m. Eastern Time on Wednesday, March 02, 2011.

Any person desiring to intervene or to protest in any of the above proceedings must file in accordance with Rules 211 and 214 of the Commission's Rules of Practice and Procedure (18 CFR 385.211 and 385.214) on or before 5 p.m. Eastern Time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Dated: February 9, 2011.
Nathaniel J. Davis, Sr.,
Deputy Secretary.

[FR Doc. 2011-3578 Filed 2-16-11; 8:45 am]

BILLING CODE 6717-01-P